DEPARTMENT OF COMMERCE

Foreign-Trade Zones Board

[B-56-2022]

Foreign-Trade Zone (FTZ) 219; Authorization of Production Activity; Barco Stamping Co. Inc.; (Stamped Metal Products); Yuma, Arizona

On November 22, 2022, the Greater Yuma Economic Development Corporation, grantee of FTZ 219, submitted a notification of proposed production activity to the FTZ Board on behalf of Barco Stamping Co. Inc., within Subzone 219B, in Yuma, Arizona.

The notification was processed in accordance with the regulations of the FTZ Board (15 CFR part 400), including notice in the Federal Register inviting public comment (87 FR 73285, November 29, 2022). On March 22, 2023, the applicant was notified of the FTZ Board's decision that no further review of the activity is warranted at this time. The production activity described in the notification was authorized, subject to the FTZ Act and the FTZ Board's regulations, including Section 400.14.

Dated: March 22, 2023.
Elizabeth Whiteman,
Acting Executive Secretary.

[FR Doc. 2023-06269 Filed 3-24-23; 8:45 am]

BILLING CODE 3510-DS-P